FEDERAL TRADE COMMISSION

Advisory Committee on Online Access and Security

AGENCY: Federal Trade Commission.

ACTION: Notice of meeting on February 25, 2000.

SUMMARY: Pursuant to section 10(a)(2) of the Federal Advisory Committee Act, 5 U.S.C. App. § 10(a)(2), and 16 CFR 16.9(a), notice is hereby given that the Federal Trade Commission Advisory Committee on Online Access and Security will hold a meeting on Friday, February 25, 2000, from 9 a.m. to 5 p.m. in Room 432, Federal Trade Commission, 600 Pennsylvania Avenue, NW., Washington, DC 20580. The meeting is open to the public and will include a period for public comment. The purpose of the Advisory Committee is to provide advice and recommendations to the Commission regarding implementation of certain fair information practices by domestic commercial Web sites—specifically, providing online consumers reasonable access to personal information collected from and about them, and maintaining adequate security for that information. Interested parties may submit comments concerning any matter to be considered at the meeting by following the procedures described below.

DATES: The Advisory Committee will meet on Friday, February 25, 2000, from 9 a.m. to 5 p.m.

ADDRESSES: The meeting will take place in Room 432, Federal Trade Commission, 600 Pennsylvania Avenue, NW., Washington, DC 20580.

FOR FURTHER INFORMATION CONTACT: Laura Mazzarella, Division of Financial Practices, Federal Trade Commission, 600 Pennsylvania Avenue, NW., Mail Stop 4429, Washington, DC 20580, telephone (202) 326-3424, email lmazzarella@ftc.gov; or Hannah Stires, Division of Financial Practices, Federal Trade Commission, 600 Pennsylvania Avenue, NW., Mail Stop 4429, Washington, DC 20580, telephone (202) 326-3178, email hstires@ftc.gov.

SUPPLEMENTARY INFORMATION:

Authority: 15 U.S.C. 41 et seq.; 5 U.S.C. App. §§ 1-15; 16 CFR part 16.

The second meeting of the Federal Trade Commission Advisory Committee on Online Access and Security will be held on Friday, February 25, 2000, in Room 432, Federal Trade Commission, 600 Pennsylvania Avenue, NW., Washington, DC from 9 a.m. to 5 p.m.

The Advisory Committee will consider the costs and benefits, to both consumers and businesses, of implementing the fair information practices of access and security with respect to personal information collected for and about consumers online. The Advisory Committee will further consider the parameters of reasonable access to personal information and adequate security and will present options for implementation of these information practices in a report to the Commission.

The tentative agenda for the second meeting is as follows:

1. Administrative matters.

2. Discussion of preliminary draft outlines submitted by subgroups on issues relating to “reasonable access”.

3. Discussion of preliminary draft outlines submitted by subgroups on issues relating to “adequate security”.

4. Public Comment.

5. Discussion of tasks and assignments.

The meeting is open to the public.

Submission of Documents

Interested parties who wish to submit comments on the meeting agenda or questions for consideration by the Advisory Committee should send an original and two copies in advance of the meeting to the Secretary, Federal Trade Commission, Room H-159, 600 Pennsylvania Avenue, NW., Washington, DC 20580. All comments and questions should be captioned “Advisory Committee on Online Access and Security—Comment, P004807.” To enable prompt review and public access, paper submissions should be accompanied by a version on diskette in ASCII, WordPerfect (please specify version) or Microsoft Word (please specify version) format. Diskettes should be labeled with the name of the submitter, the Advisory Committee caption, and the name and version of the word processing program used to create the document.

Alternatively, comments or questions may be submitted to the following email address: advisorycommittee@ftc.gov; if submitted by email, only one copy of the comment or question is required. The email should contain the name of the submitter, the Advisory Committee caption, and, if a document is attached, the name and version of the word processing program used to create the document.

To ensure that comments are processed properly, individuals submitting comments should be sure to use the above addresses. All comments will be posted on the Advisory Committee's Web page at www.ftc.gov/acoas as soon as reasonably possible, and likely within 5 business days of receipt.

By direction of the Commission.
Donald S. Clark,
Secretary of the Commission.

[FR Doc. 00-3085 Filed 2-9-00; 8:45 am]

BILLING CODE 6750-01-P